DEPARTMENT OF COMMERCE

National Oceanic and Atmospheric Administration

RIN 0648-XA113

Marine Mammals; File No. 14245; Permit To Conduct Research on Marine Mammals; Receipt of Application

AGENCY: National Marine Fisheries Service (NMFS), National Oceanic and Atmospheric Administration (NOAA), Commerce.

ACTION: Notice; receipt of application.

SUMMARY: Notice is hereby given that National Marine Fisheries Service, National Marine Mammal Laboratory (NMML), Alaska Fisheries Science Center (Dr. John Bengtson, Responsible Party), 7600 Sand Point Way, NE., Seattle, Washington 98115-6349, has applied in due form for a permit to conduct research on narwhals, Monodon monoceros.

DATES: Written, telefaxed, or e-mail comments must be received on or before January 28, 2011.

ADDRESSES: These documents are available upon written request or by appointment in the following offices:

Permits, Conservation and Education Division, Office of Protected Resources, NMFS, 1315 East-West Highway, Room 13705, Silver Spring, MD 20910; phone (301) 713-2289; fax (301) 713-0376; and

Alaska Region, NMFS, P.O. Box 21668, Juneau, AK 99802-1668; phone (907) 586-7221; fax (907) 586-7249.

Written comments on this application should be submitted to the Chief, Permits, Conservation and Education Division at the address listed above. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Amy Hapeman or Carrie Hubard, (301) 713-2289.

SUPPLEMENTARY INFORMATION: The subject permit is requested under the authority of the Marine Mammal Protection Act of 1972, as amended (MMPA; 16 U.S.C. 1361 et seq.), and the regulations governing the taking and importing of marine mammals (50 CFR part 216).

On April 27, 2010 notice (80 FR 22119) was published that NMML requests a 5-year permit to conduct research on marine mammals in the Pacific, Atlantic, Arctic, and Southern Oceans to monitor cetaceans for scientific and management purposes. NMFS is in the midst of processing this request. Due to recent changes in narwhal distribution NMML now requests as part of this application to take narwhals during aerial and vessel surveys to document sightings in North Pacific and Arctic waters and monitor their status and trends. Up to 1,000 animals would be taken annually by each survey platform for observation, monitoring, counts, photo-identification and photogrammetry. During vessel surveys researchers would opportunistically collect sloughed skin, fecal samples, and carcass remains.

An environmental assessment is being prepared in compliance with the National Environmental Policy Act of 1969 (42 U.S.C. 4321 et seq.) to examine whether significant environmental impacts could result from issuance of the proposed scientific research permit.

Concurrent with the publication of this notice in the Federal Register, NMFS is forwarding copies of the application to the Marine Mammal Commission and its Committee of Scientific Advisors.

Dated: December 22, 2010.
P. Michael Payne,
Chief, Permits, Conservation and Education Division, Office of Protected Resources, National Marine Fisheries Service.

[FR Doc. 2010-32847 Filed 12-28-10; 8:45 am]

BILLING CODE 3510-22-P